ENVIRONMENTAL PROTECTION AGENCY

40 CFR Part 52

[EPA-R09-OAR-2006-0714, FRL-8701-4]

Revisions to the California State Implementation Plan, Antelope Valley Air Quality Management District

AGENCY: Environmental Protection Agency (EPA).

ACTION: Direct final rule.

SUMMARY: EPA is taking direct final action to approve revisions to the Antelope Valley Air Quality Management District (AVAQMD) portion of the California State Implementation Plan (SIP). Under authority of the Clean Air Act as amended in 1990 (CAA or the Act), we are approving minor administrative changes to local rules that address permitting requirements.

DATES: This rule is effective on November 3, 2008 without further notice, unless EPA receives adverse comments by October 2, 2008. If we receive such comments, we will publish a timely withdrawal in the Federal Register to notify the public that this rule will not take effect.

ADDRESSES: Submit comments, identified by docket number EPA-R09-OAR-2006-0714 by one of the following methods:

• Federal eRulemaking Portal: www.regulations.gov. Follow the on-line instructions.

• E-mail: R9airpermits@epa.gov.

• Mail or deliver: Gerardo Rios (Air-3), U.S. Environmental Protection Agency Region IX, 75 Hawthorne Street, San Francisco, CA 94105.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Laura Yannayon, Permits Office (AIR-3), U.S. Environmental Protection Agency, Region IX, (415) 972-3534, yannayon.laura@epa.gov.

SUPPLEMENTARY INFORMATION: Throughout this document, “we,” “us” and “our” refer to EPA.

Table of Contents

I. The State's Submittal

A. What rules did the State submit?

B. Are there other versions of these rules?

C. What is the purpose of the submitted rule and rule revisions?

II. EPA's Evaluation and Action

A. How is EPA evaluating the rules?

B. Do the rules meet the evaluation criteria?

C. Public Comment and Final Action

III. Statutory and Executive Order Reviews

I. The State's Submittal

A. What rules did the State submit?

Table 1 lists the rules we are approving with the date that they were amended by the local air agency and submitted by the California Air Resources Board (CARB).

Table 1—Submitted Rules for Full Approval
Local agency | Rule No. | Rule title | Amended | Submitted
AVAQMD | 101 | Title | 05/17/05 | 03/10/06
AVAQMD | 102 | Definition of Terms | 05/17/05 | 03/10/06
AVAQMD | 106 | Increments of Progress | 05/17/05 | 03/10/06
AVAQMD | 108 | Alternative Emission Control Plans | 05/17/05 | 03/10/06
AVAQMD | 109 | Recordkeeping for Volatile Organic Compound Emissions | 05/17/05 | 03/10/06
AVAQMD | 208 | Permit for Open Burning | 05/17/05 | 03/10/06
AVAQMD | 210 | Applications | 05/17/05 | 03/10/06
AVAQMD | 212 | Standards for Approving Permits | 05/17/05 | 03/10/06
AVAQMD | 218 | Stack Monitoring | 05/17/05 | 03/10/06
AVAQMD | 220 | Exemption—Net Increase in Emissions | 05/17/05 | 03/10/06
AVAQMD | 221 | Plans | 05/17/05 | 03/10/06
AVAQMD | 226 | Limitations on Potential to Emit | 05/17/05 | 03/10/06

On March 30, 2006, these rule submittals were found to meet the completeness criteria in 40 CFR part 51, appendix V, which must be met before formal EPA review.

B. Are there other versions of these rules?

We approved Rules 101 and 102 into the SIP on December 31, 1998 (63 FR 72197); Rule 106 on June 14, 1978 (43 FR 25686); Rule 108 on August 30, 1993 (58 FR 45445); Rule 109 on April 13, 1995 (60 FR 18750); Rule 210 on October 8, 1976 (43 FR 40011); Rule 212 on December 4, 1996 (61 FR 64291); Rules 218 and 220 on July 6, 1982 (47 FR 29231); Rule 221 on April 17, 1987 (52 FR 12522); and Rule 226 on August 31, 2004 (69 FR 53005).

There is no version of Rule 208 in the SIP. We did not act on a version of Rule 208 adopted by AVAQMD on January 5, 1990 and submitted by CARB to us on December 31, 1990. While we can act on only the most recently submitted version, we have reviewed materials provided with previous submittal.

C. What is the purpose of the submitted rule and rule revisions?

These rules describe administrative provisions and definitions that support emission controls found in other local agency requirements. In combination with the other requirements, these rules must be enforceable (see section 110(a) of the CAA) and must not relax existing requirements (see sections 110(l) and 193).

The TSD has more information about these rules.

II. EPA's Evaluation and Action

A. How is EPA evaluating the rules?

These rules describe administrative provisions and definitions that support emission controls found in other local agency requirements. In combination with the other requirements, these rules must be enforceable (see section 110(a) of the CAA) and must not relax existing requirements (see sections 110(l) and 193).

The following guidance documents were used for reference:

• Review of New Sources and Modifications, U.S. EPA, 40 CFR part 51, subpart I.

• Guidance Document for Correcting Common VOC & Other Rule Deficiencies, EPA Region 9, (August 21, 2001). (The Little Bluebook)

B. Do the rules meet the evaluation criteria?

We believe the rules are consistent with the relevant policy and guidance regarding enforceability and SIP relaxations. The TSD has more information on our evaluation.

C. Public Comment and Final Action

As authorized in section 110(k)(3) of the CAA, EPA is fully approving the submitted Rules 101, 102, 106, 108, 109, 208, 210, 212, 218, 220, 221, and 226 because we believe they fulfill all relevant requirements. We do not think anyone will object to this, so we are finalizing the approval without proposing it in advance. However, in the Proposed Rules section of this Federal Register, we are simultaneously proposing approval of the same submitted rules. If we receive adverse comments by October 2, 2008, we will publish a timely withdrawal in the Federal Register to notify the public that the direct final approval will not take effect and we will address the comments in a subsequent final action based on the proposal. If we do not receive timely adverse comments, the direct final approval will be effective without further notice on November 3, 2008. This will incorporate these rules into the federally-enforceable SIP.

Please note that if EPA receives adverse comment on an amendment, paragraph, or section of this direct final rule and if that provision may be severed from the remainder of the rule, EPA may adopt as final those provisions of the rule that are not the subject of an adverse comment.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 3, 2008. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Reporting and recordkeeping requirements.

Dated: July 11, 2008.
Laura Yoshii,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(344)(i)(A)(2), (3), and (4) to read as follows:

§ 52.220 Identification of plan.

* * * * *

(c) * * *

(344) * * *

(i) * * *

(A) * * *

(2) Rule 101, “Title,” and Rule 102, “Definition of Terms,” originally adopted on February 4, 1977 and amended on May 17, 2005.

(3) Rule 106, “Increments of Progress,” Rule 210, “Applications,” Rule 212, “Standards for Approving Permits,” and Rule 218, “Stack Monitoring,” originally adopted on January 9, 1976 and amended on May 17, 2005.

(4) Rule 108, “Alternative Emission Control Plans,” Rule 109, “Recordkeeping for Volatile Organic Compound Emissions,” Rule 208, “Permit for Open Burning,” Rule 220, “Exemption—Net Increase in Emissions,” Rule 221, “Plans,” and Rule 226, “Limitations on Potential to Emit,” originally adopted on March 2, 1990, May 5, 1989, October 8, 1976, November 4, 1977, January 4, 1985, and March 17, 1998, respectively, and amended on May 17, 2005.

* * * * *

[FR Doc. E8-20137 Filed 8-29-08; 8:45 am]

BILLING CODE 6560-50-P